DEPARTMENT OF VETERANS AFFAIRS

[OMB Control No. 2900-0012]

Agency Information Collection Activity Under OMB Review: Application for Cash Surrender or Policy Loan

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before April 18, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0012” in any correspondence.

FOR FURTHER INFORMATION CONTACT: Cynthia Harvey-Pryor, Enterprise Records Service (005R1B), Department of Veterans Affairs, 810 Vermont Avenue NW, Washington, DC 20420, (202) 461-5870 or email cynthia.harvey-pryor@va.gov. Please refer to “OMB Control No. 2900-0012” in any correspondence.

SUPPLEMENTARY INFORMATION:

Authority: Public Law 104-13; 44 U.S.C. 3501-21.

Title: Application for Cash Surrender or Policy Loan VA Form 29-1546.

OMB Control Number: 2900-0012.

Type of Review: Reinstatement of a Previously Approved Collection.

Abstract: The Application for Cash Surrender or Policy Loan solicits information needed from Veterans to apply for cash surrender value or policy loan on his/her insurance. The information on this form is required by law, 38 U.S.C. 1906 and 1944, 38 CFR 6.115, 6.116, 6.117, 8.27, 6.100, 6.101 and 8.28. This form was allowed to expire due to high level of work volume and staffing changes.

An agency may not conduct or sponsor, and a person is not required to respond to a collection of information unless it displays a currently valid OMB control number. The Federal Register Notice with a 60-day comment period soliciting comments on this collection of information was published at 82 FR 209 on October 31, 2017, page 50489.

Affected Public: Individuals and Households.

Estimated Annual Burden: 4,939 Hours.

Estimated Average Burden per Respondent: 10 Minutes.

Frequency of Response: Upon Request.

Estimated Number of Respondents: 29,636.

By direction of the Secretary.
Cynthia Harvey-Pryor,
Department Clearance Officer, Office of Office of Quality, Privacy and Risk, Department of Veterans Affairs.

[FR Doc. 2018-05442 Filed 3-16-18; 8:45 am]

BILLING CODE 8320-01-P